FEDERAL COMMUNICATIONS COMMISSION

[WC Docket No. 02-157; FCC 02-262]

Application by Verizon New England Inc., Verizon Delaware Inc., Bell Atlantic Communications, Inc. (d/b/a Verizon Long Distance), NYNEX Long Distance Company (d/b/a Verizon Enterprise Solutions), Verizon Global Networks Inc., and Verizon Select Services Inc., for Authorization To Provide In-Region, InterLATA Services in New Hampshire and Delaware

AGENCY: Federal Communications Commission.

ACTION: Notice.

SUMMARY: In the document, the Federal Communications Commission (Commission) grants the section 271 application of Verizon New England, Inc. Verizon Delaware Inc., Bell Atlantic Communications, Inc. (d/b/a Verizon Long Distance), NYNEX Long Distance Company (d/b/a Verizon Enterprise Solutions), Verizon Global Networks Inc., and Verizon Select Services Inc. (Verizon), for authority to enter the interLATA telecommunications market in the states of New Hampshire and Delaware. The Commission grants Verizon's application based on its conclusion that Verizon has satisfied all of the statutory requirements for entry and opened its local exchange markets to full competition.

DATES: Effective October 4, 2002.

FOR FURTHER INFORMATION CONTACT: Henry Thaggert, Attorney-Advisor, Wireline Competition Bureau, at (202) 418-7941 or via the Internet at hthagger@fcc.gov. The complete text of this Memorandum Opinion and Order is available for inspection and copying during normal business hours in the FCC Reference Information Center, Portals II, 445 12th Street, SW., Room CY-A257, Washington, DC 20554. Further information may also be obtained by calling the Wireline Competition Bureau's TTY number: (202) 418-0484.

SUPPLEMENTARY INFORMATION: This is a summary of the Commission's Memorandum Opinion and Order in WC Docket No. 02-157, FCC 02-262, adopted September 25, 2002, and released September 25, 2002. The full text of this order may be purchased from the Commission's duplicating contractor, Qualex International, Portals II, 445 12th Street, SW., Room CY-B402, Washington, DC 20554, telephone 202-863-2893, facsimile 202-863-2898, or via e-mail qualexint@aol.com. It is also available on the Commission's Web site at http://www.fcc.gov/Bureaus/ Wireline_Competition/in-region_applications.

Synopsis of the Order

1. History of the Application. On June 27, 2002, Verizon filed an application pursuant to section 271 of the Telecommunications Act of 1996, with the Commission to provide in-region, interLATA service in the states of New Hampshire and Delaware.

2. The State Commissions' Evaluations. The New Hampshire Public Utilities Commission (New Hampshire Commission) and the Delaware Public Services Commission (Delaware Commission), following an extensive review process, advised the Commission that Verizon has taken the statutorily required steps to open its local markets in each state to competition. Consequently, the state commissions recommended that the Commission approve Verizon's in-region, interLATA entry in their evaluations and comments in this proceeding.

3. The Department of Justice's Evaluation. The Department of Justice filed its evaluation on August 1, 2002, concluding that Verizon has generally succeeded in opening its local markets in New Hampshire and Delaware to competition. Accordingly, the Department of Justice recommends approval of Verizon's application for section 271 authority in New Hampshire and Delaware.

Primary Issues in Dispute

4. Compliance with Section 271(c)(1)(A). The Commission concludes that Verizon demonstrates that it satisfies the requirements of section 271 (c)(1)(A) based on the interconnection agreements it has implemented with competing carriers in New Hampshire and Delaware. The record demonstrates that competitive LECs serve business and residential customers using predominantly their own facilities in each of the states.

5. Checklist Item 2—Unbundled Network Elements. Based on the record, the Commission finds that Verizon has provided “nondiscriminatory access to network elements in accordance with the requirements of sections 251(c)(3) and 252(d)(1)” of the Act in compliance with checklist item 2.

6. The Commission further finds that, while substantial questions were raised regarding whether New Hampshire UNE rates were adopted through a proceeding that correctly applied TELRIC principles in all instances, Verizon's current New Hampshire UNE rates pass a benchmark comparison to New York UNE rates. Therefore, New Hampshire UNE rates satisfy checklist item 2. The Commission performs its benchmark analysis by aggregating non loop rate elements.

7. In Delaware, Verizon reduced its switching rates during the pendency of this proceeding in response to claims that the data underlying cost inputs to the rates had become outdated. Verizon's reduced switching rates caused Verizon's non loop rates to satisfy a benchmark comparison to New York non loop rates. Delaware loop rates also satisfied a benchmark comparison to New York rates. Thus, Verizon's Delaware UNE rates also satisfy checklist item 2.

8. OSS. The Commission also concludes that Verizon provides nondiscriminatory access to its OSS—the systems, databases, and personnel necessary to support network elements or services. Verizon provides access to its OSS in a manner that enables competing carriers to perform the functions in substantially the same time and manner as Verizon does or, if no appropriate retail analogue exists within Verizon's systems, in a manner that permits competitors a meaningful opportunity to compete. In addition, regarding specific areas where the Commission identifies relatively minor issues with Verizon's OSS performance in New Hampshire—order processing notifiers, flow-through, and billing accuracy—these problems are not sufficient to warrant a finding of checklist noncompliance.

9. Checklist Item 4—Unbundled Local Loops. Verizon demonstrates that it provides unbundled local loops in accordance with the requirements of section 271 and our rules, in that it provides “local loop transmission from the central office to the customer's premises, unbundled from local switching or other services.” More specifically, Verizon establishes that it provides access to loop make-up information in compliance with the UNE Remand Order and nondiscriminatory access to stand alone xDSL-capable loops and high-capacity loops. Also, Verizon provides voice grade loops, both as new loops and through hot-cut conversions, in a nondiscriminatory manner. Finally, Verizon has demonstrated that it has a line-sharing and line-splitting provisioning process that affords competitors nondiscriminatory access to these facilities.

Other Checklist Items

10. Checklist Item 1—Interconnection. Based on the evidence in the record, the Commission concludes that Verizon provides access and interconnection on terms and conditions that are just, reasonable and nondiscriminatory, in accordance with the requirements of section 251(c)(2) and as specified in section 271, and applied in the Commission's prior orders. Pursuant to this checklist item, Verizon must allow other carriers to interconnect their networks to its network for the mutual exchange of traffic, using any available method of interconnection at any available point in Verizon's network. Verizon's performance generally satisfies the applicable benchmark or retail comparison standards for this checklist item.

11. Checklist Item 11—Local Number Portability. Section 251(b)(2) requires all LECs “to provide, to the extent technically feasible, number portability in accordance with requirements prescribed by the Commission.” Based on the evidence in the record, the Commission finds that Verizon complies with the requirements of checklist item 11. As noted elsewhere in the order, Verizon uses the same processes and procedures relating to unbundled loops in Delaware as it does in Pennsylvania. Therefore, because there is insufficient data in Delaware, we look to Verizon's performance in Pennsylvania as a basis for our evaluation, and it has met the benchmark standard for this measurement in Pennsylvania in each relevant month.

12. Checklist Items 3, 5, 6, 7, 8, 9, 10, 12, 13 and 14. An applicant under section 271 must demonstrate that it complies with checklist item 3 (access to poles, ducts, and conduits), item 5 (unbundled local transport), item 6 (unbundled local switching), item 7 (911/E911 access and directory assistance/operator services), item 8 (white pages directory listings), item 9 (numbering administration), item 10 (databases and associated signaling), item 12 (local dialing parity), item 13 (reciprocal compensation), and item 14 (resale). Based on the evidence in the record, the Commission concludes that Verizon demonstrates that it is in compliance with checklist items 3, 5, 6, 7, 8, 9, 10, 12, 13 and 14 in New Hampshire and Delaware.

13. Section 272 Compliance. Based on the record, Verizon provides evidence that it maintains the same structural separation and nondiscrimination safeguards in Delaware and New Hampshire as it does in Pennsylvania, New York, Connecticut, and Massachusetts—states in which Verizon has already received section 271 authority. Therefore, the Commission concludes that Verizon has demonstrated that it is in compliance with the requirements of section 272.

14. Public Interest Analysis. The Commission concludes that approval of this application is consistent with the public interest. From its extensive review of the competitive checklist, which embodies the critical elements of market entry under the Act, we find that barriers to competitive entry in the local exchange markets have been removed and the local exchange markets in New Hampshire and Delaware are open to competition. The Commission further finds that, as noted in prior section 271 orders, BOC entry into the long distance market will benefit consumers and competition if the relevant local exchange market is open to competition consistent with the competitive checklist. Verizon demonstrates that there is significant local competition in Delaware and New Hampshire, that Verizon's local market will remain open to competition, and that section 271 approval would enhance local and long distance competition in Delaware and New Hampshire.

15. Section 271(d)(6) Enforcement Authority. Working with each of the state commissions, the Commission intends to closely monitor Verizon's post-approval compliance to ensure that Verizon continues to meet the conditions required for section 271 approval. It stands ready to exercise its various statutory enforcement powers quickly and decisively in appropriate circumstances to ensure that the local market remains open in each of the states.

Federal Communications Commission.
Marlene H. Dortch,
Secretary.

[FR Doc. 02-25062 Filed 10-1-02; 8:45 am]

BILLING CODE 6712-01-P